DEPARTMENT OF AGRICULTURE

Forest Service

Intergovernmental Advisory Committee Meeting

AGENCY: Forest Service, USDA.

ACTION: Notice of meeting.

SUMMARY: The Intergovernmental Advisory Committee (IAC) will meet on May 2, 2002, at the Double Tree Hotel, Lloyd Center, 1000 NE Multnomah, Portland, Oregon 97220. The primary purpose of the meeting is to continue with discussions on implementation of the Northwest Forest Plan (NWFP). The meeting is scheduled to begin at 10 a.m. and continue until 4:30 p.m. Agenda items to be discussed include, but are not limited to: Options for the Supporting Organizational Structure for the NWFP, Endangered Species Act salmonid Recovery Planning, Potential Future Direction of NWFP implementation, and recent court rulings related to the NWFP. The IAC meeting will be open to the public and is fully accessible for people with disabilities. Interpreters are available upon request at least 10 days in advance of the meeting. Written comments may be submitted for the record at the meeting. A time slot for oral public comments during the meeting is scheduled. Interested persons are encouraged to attend.

FOR FURTHER INFORMATION CONTACT: Questions regarding this meeting may be directed to Steve Odell, Executive Director, Regional Ecosystem Office, 333 S.W. First Avenue, P.O. Box 3623, Portland, OR 97208 (Phone: 503-808-2165).

Dated: April 11, 2002.
Stephen J. Odell,
Designated Federal Official.

[FR Doc. 02-9267 Filed 4-16-02; 8:45 am]

BILLING CODE 3410-11-M